NATIONAL TRANSPORTATION SAFETY BOARD

Sunshine Act Meeting; Agenda

Time and Date: 9:30 a.m., Tuesday, January 24, 2006.

Place: NTSB Board Room, 429 L'Enfant Plaza, SW., Washington, DC 20594.

Status: The one item is open to the public.

Matters to be Considered: 7694A, Aircraft Accident Report—Collision with Trees and Crash Short of the Runway, Corporate Airlines Flight 5966, British Aerospace BAE-J3201, N875KX, Kirskville, Missouri, October 19, 2004.

News Media Contact: Telephone (202) 314-6100.

Individuals requesting specific accommodations should contact Mr. Chris Bisett at (202) 314-6305 by Friday, January 20, 2006.

The public may view the meeting via a live or archived webcast by accessing a link under “News & Events” on the NTSB home page at http://www.ntsb.gov.

For More Information Contact: Vicky D'Onofrio, (202) 314-6410.

Dated: January 13, 2006.
Vicky D'Onofrio,
Federal Register Liaison Officer.

[FR Doc. 06-486 Filed 1-13-06; 1:36 pm]

BILLING CODE 7533-01-M